NATIONAL CREDIT UNION ADMINISTRATION

Notice of Meeting; Sunshine Act

Time and Date: 10 a.m., Tuesday, November 29, 2005.

Place: Board Room, 7th Floor, Room 7047, 1775 Duke Street, Alexandria, VA 22314-3428.

Status: Open.

Matters to be Considered: 1. Request from a Federal Credit Union to Convert to a Community Charter.

2. NCUA's Operating Budget for 2006/2007.

3. NCUA's Overhead Transfer Rate.

4. NCUA's Operating Fee Scale for 2006.

5. Interim Final Rule and Request for Comments: Part 707 of NCUA's Rules and Regulations, Truth in Savings.

6. Final Rule: Part 796 of NCUA's Rules and Regulations, Post-Employment Restrictions for Certain NCUA Examiners.

Recess: 11:15 a.m.

Time and Date: 11:30 a.m., Tuesday, November 29, 2005.

Place: Board Room, 7th Floor, Room 7047, 1775 Duke Street, Alexandria, VA 22314-3428.

Status: Closed.

Matters to be Considered:

1. Part 703 of NCUA's Rules and Regulations, Pilot Program Request. Closed pursuant to Exemption (4).

FOR FURTHER INFORMATION CONTACT: Mary Rupp, Secretary of the Board, Telephone: 703-518-6304.

Mary Rupp,
Secretary of the Board.

[FR Doc. 05-23375 Filed 11-22-05; 3:20 pm]

BILLING CODE 7535-01-M